DEPARTMENT OF TRANSPORTATION

Federal Aviation Administration

[Docket No.: FAA-2025-2928]

Advisory Circular No. 450.169-1A, Launch and Reentry Collision Avoidance Analysis

AGENCY: Federal Aviation Administration (FAA), Department of Transportation (DOT).

ACTION: Notice of availability, request for comments.

SUMMARY: The Federal Aviation Administration (FAA) is solicitating public comment on its intentions to revise an existing Advisory Circular (AC) that provides guidance to launch and reentry vehicle operators on how to complete launch and reentry collision avoidance analyses for the purpose of vehicle operator license applications. Specifically, the proposed revisions would clarify that, for certain commercial launch and reentry operations supporting National Aeronautics and Space Administration (NASA) missions, collision avoidance (COLA) analyses may be obtained from two NASA components. The current version of the AC only identifies the 19th Space Defense Squadron (SDS) as an FAA-approved COLA provider.

DATES: Written comments must be received by October 17, 2025.

ADDRESSES: Please send comments identified with “Launch and Reentry Collision Avoidance Analysis,” and [Enter docket number] to the email address, 9-ast-asz210-directives@faa.gov.

FAA will consider all comments and recommendations received while developing the final version of the AC. AST will also acknowledge receipt of all comments and recommendations if contact information is provided. The final version will be published on FAA website (www.faa.gov/regulations_policies/advisory_circulars).

Privacy: The Department of Transportation's complete Privacy Act Statement can be found in the Federal Register published on April 11, 2000 (65 FR 19477), as well as at DocketsInfo.dot.gov.

FOR FURTHER INFORMATION CONTACT: James Hatt, Space Policy Division Manager, Office of Commercial Space Transportation, Federal Aviation Administration, 800 Independence Avenue SW, Washington, DC 20591-0001; James.A.Hatt@faa.gov.

SUPPLEMENTARY INFORMATION:

Background

The Commercial Space Launch Act of 1984, as amended and codified at 51 U.S.C. 50901 through 50923 (“the Act”), authorizes DOT, and FAA through delegation,¹ to oversee, license, and regulate commercial launch and reentry activities, and the operation of launch and reentry sites as carried out by U.S. citizens or within the United States. The Act's requirements are implemented in parts 400 through 460 of title 14 of the Code of Federal Regulations (14 CFR).

¹ See 49 CFR 1.83(b).

In accordance with the requirements set forth in § 450.169(e), launch and reentry vehicle operators are required to, among other things, obtain for each launch or reentry a COLA analysis from a Federal entity identified by the FAA, or another entity agreed to by the Administrator.

On August 10, 2023, FAA published an AC, titled “Launch and Reentry Collision Avoidance Analysis” (AC No.: 450.169-1), which provides launch and reentry vehicle operators with guidance pertaining to the COLA analysis requirements. Among other things, the AC specifies that the 19th SDS could be used for the purpose of COLA processing.

FAA is now proposing the issuance of a revised AC (AC No. 450.169-1A) to clarify that, for certain commercial launch and reentry operations supporting NASA missions, COLA analyses may also be obtained from two NASA components. Specifically, for the International Space Station (ISS) and its supporting vehicles, COLA analyses may also be obtained from the Trajectory Operations and Planning Officer (TOPO) at Johnson Space Center, and for NASA robotic missions not involving human space flight, COLA analyses may also be obtained from the Conjunction Assessment Risk Analysis (CARA) program at the Goddard Space Flight Center.

Comments Invited

FAA invites the public to submit comments on the draft AC, as specified in the ADDRESSES section. Commenters should include the subject line “Launch and Reentry Collision Avoidance Analysis” and FAA-2025-2928 on all comments submitted to FAA. The most helpful comments will reference a specific portion of the draft document, explain the reason for any recommended change, and include supporting data. Public comments submitted in accordance with the process set forth in this Federal Register notice will be considered for the purpose of the final version of this draft AC. However, even following the release of the final version of this draft AC, members of the public will continue to have the ability to submit feedback and suggestions pertaining to the AC in accordance with the process outlined in the AC.

You may examine the draft AC on the agency's public website and in the docket as follows:

• At www.regulations.gov in Docket [enter docket number].

• At the “Commercial Space Draft Advisory Circulars (ACs)” page of the agency's public website, which is located at https://www.faa.gov/space/legislationregulationguidance/draft_docs/ac.

Issued in Washington, DC.
James A. Hatt,
Manager, Space Policy Division, Office of Commercial Space Transportation.

[FR Doc. 2025-17922 Filed 9-16-25; 8:45 am]

BILLING CODE 4910-13-P